FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011721.

Title: A.P. Moller-Maersk Sealand/CMA-CGM Slot Charter Agreement.

Parties: A.P. Moller-Maersk Sealand (“MSL”) CMA-CGM S.A. (“CMA-CGM”).

Synopsis: The proposed agreement, authorizes MSL to slot charter up to 250 TEUs per vessel per week to CMA-CGM in the trade between the U.S. East and Gulf Coast, and ports in France, the United Kingdom, Germany and the Netherlands. The parties request expedited review.

Dated: August 24, 2000.
By Order of the Federal Maritime Commission.
Theodore A. Zook,
Assistant Secretary.

[FR Doc. 00-22188 Filed 8-29-00; 8:45 am]

BILLING CODE 6730-01-P